DEPARTMENT OF HEALTH AND HUMAN SERVICES

Food and Drug Administration

[Docket No. FDA-2015-N-0001]

Advisory Committee Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed in the following table for an additional 2 years beyond charter expiration date. The new charters will be in effect until the dates of expiration listed in the following table. This notice is issued under the Federal Advisory Committee Act (5 U.S.C. app.).

DATES: Authority for these committees will expire on the dates indicated in the following table unless the Commissioner formally determines that renewal is in the public interest.

Name of committee | Date of expiration
Cardio and Renal Drugs Advisory Committee | August 27, 2016.
Endocrinologic and Metabolic Drugs Advisory Committee | August 27, 2016.
Oncologic Drugs Advisory Committee | September 1, 2016.
Anti-Infective Drugs Advisory Committee | October 7, 2016.
Dermatologic and Ophthalmic Drugs Advisory Committee | October 7, 2016.
Cellular, Tissue, and Gene Therapies Advisory Committee | October 28, 2016.
Technical Electronic Product Radiation Safety Standards Committee | December 24, 2016.

FOR FURTHER INFORMATION CONTACT: Michael Ortwerth, Director, Advisory Committee Oversight and Management Staff, Food and Drug Administration, 10903 New Hampshire Ave., Silver Spring, MD 20993-0002, 301-443-0572 or 1-800-741-8138. For further information related to FDA advisory committees, please visit us at http://www.fda.gov/AdvisoryCommittees/default.htm.

Dated: February 6, 2015.
Leslie Kux,
Associate Commissioner for Policy.

[FR Doc. 2015-02909 Filed 2-11-15; 8:45 am]

BILLING CODE 4164-01-P